DEPARTMENT OF AGRICULTURE

Forest Service

Bear Knoll Timber Management Project, Mt. Hood National Forest, Wasco County, Oregon

AGENCY: Forest Service, USDA.

ACTION: Notice of intent to prepare an Environmental Impact Statement.

SUMMARY: The Forest Service, USDA, will prepare an environmental impact statement (EIS) on a proposal to improve forest health on approximately 821 acres of land. The proposal includes using six specific silvicultural treatments, construction 4.3 miles of temporary roads, reconstructing approximately 3.2 miles of roads, and closing approximately 7.2 miles of roads within the planning area. The Proposed Action would be in compliance with the 1990 Mt. Hood National Forest Land and Resource Management Plan (Forest Plan), as amended by the Northwest Forest Plan, which provides the overall guidance for management of this area. The Proposed Action is within the White River watershed on the Hood River Ranger District and is scheduled for implementation in fiscal years 2003 and 2004. The Mt. Hood National Forest invites written comments and suggestions on the scope of the analysis. The agency will give notice of the full environmental analysis and decision-making process so interested and affected people may be able to participate and contribute in the final decision.

DATES: Comments concerning the scope of the analysis should be postmarked by June 1, 2002.

ADDRESSES: Send written comments and suggestions concerning the proposed action in this area to Art Guertin, 6780 Highway 35, Mt. Hood/Parkdale, OR, 97041 (phone: 541-352-6002). Comments may also be sent by FAX (541-352-7365). Include your name and mailing address with your comments so documents pertaining to this project may be mailed to you.

FOR FURTHER INFORMATION CONTACT: Question about the Proposed Action and EIS should be directed to Art Guertin (address and phone number listed above), or to Mike Redmond, Environmental Coordinator, 16400 Champion Way, Sandy, OR, 97055-7248 (phone: 503-668-1776).

SUPPLEMENTARY INFORMATION: The Proposed Action would promote density management on approximately 564 acres by removing trees from stands currently declining in growth and health because the stands are overstocked with too many trees and are dominated by western hemlock, which is susceptible to the Indian Paint Fungus (Echinodontium tinctorium). Treatment of these stands would help reach the goal of providing healthy, vigorous stands, which contain a diversity of tree species and visually appealing forest scenery, as defined by the Mt. Hood Forest Plan. The proposal also regenerates approximately 217 acres where the stands have reached/surpassed the culmination of mean annual increment and are infected with Indian Paint Fungus. Treating these stands would help meet the goal of re-establishing healthy, disease resistant timber stands. The proposal also removes the overstory trees and thins the understory trees on approximately 21 acres where the overstory pine trees, believed to have come from Idaho, were planted over 30 years ago and are now showing signs of environmental stress and damage. Treating this stand would help meet the goal of promoting ecosystem health by ensuring plants are not weakened by mal-adaptation and overcome by environmental stress. Commercial thinning and restoration projects on approximately 19 acres, within riparian reserves, are also proposed. Treating these stands would help restore and maintain the ecological health of the watershed and aquatic ecosystems.

Approximately 4.3 miles of temporary roads would be constructed where access is needed to implement the proposed action. In addition, approximately 3.2 miles would be reconstructed for log haul. Approximately 7.2 miles of roads not needed for future management and currently causing wildlife harassment, would be closed as would the 4.3 miles of temporary roads.

The planning area is located in portions of Sections 2, 3, & 4 of T.5 S., R.9 E., and portions of Sections 23, 24, 25, 26, 27, 28, 29, 33, 34, 35, & 36, of T.4S., R. 9 E., Willamette Meridian, Wasco County, Oregon. This analysis will evaluate a range of alternatives for implementation of the project activities included a non-action alternative. The planning area does not include any wilderness, RARE II, or other inventoried roadless land. The planning area is identified as a Tier 2 Key Watershed in the Northwest Forest Plan.

The Bear Knoll Planning Area is included in the C-1, Timber Emphasis, area of the Mt. Hood National Forest Land and Resource Management Plan. The B-2, Scenic Viewshed land allocation also occurs in the planning area along the corridor of State Highway 26.

Responsible Official

The responsible official is Mt. Hood National Forest Supervisor, Gary Larsen. The responsible official will decide which, if any, of the alternatives will be implemented. His decision and rationale for the decision will be documented in a Record of Decision, which will be subject to Forest Service Appeal Regulations (36 CFR part 215).

Preliminary Issues

Three preliminary issues have been identified; impacts from conversion of a portion of the existing old growth forest to a younger, non-old growth condition, impacts from constructing new temporary roads to implement the proposed action, and impacts from entering/cutting in riparian reserves.

Public Involvement, Rationale, and Public Meetings

Since the Fall issue of 1998, the Bear Knoll Planning Area has been identified in Sprouts, the Mt. Hood National Forest quarterly publication that lists upcoming actions. An initial scoping letter was sent out in 1999 to approximately 165 individuals, agencies, and organizations that might have an interest in the proposed activities within the Bear Knoll Planning Area. There has also been a field trip with interested public groups in 2001. Future scoping will include continued inclusion in Sprouts, and continued identification and clarification of issues, identification of key issues to be analyzed in depth, and identification of potential environmental effects of the Proposed Action.

The Forest Service is seeking information, comments, and assistance from other agencies, organizations, Indian Tribes, and individuals who may be interested in or affected by the Proposed Action. This input will be used in preparation of the draft EIS. Your comments are appreciated throughout the analysis process.

Estimated Dates for Filing

The draft EIS is planned to be filed with the Environmental Protection Agency (EPA) and available for public review by July 15, 2002. At that time, copies of the draft EIS will be distributed to interested and affected agencies, organizations, Indian Tribes, and members of the public for their review and comment. The EPA will publish a Notice of Availability of the draft EIS in the Federal Register. The comment period on the draft EIS will be 45 days from the date the EPA notice appears in the Federal Register. It is important that those interested in this proposal on the Mt. Hood National Forest participate at that time.

The final EIS is scheduled to be available by September 1, 2002. In the final EIS, the Forest Service is required to respond to substantive comments received during the comment period for the draft EIS.

The Reviewers Obligation to Comment

The Forest Service believes, at this early stage, it is important to give reviewers notice of several court rulings related to public participation in the environmental review process. First, reviewers of draft EIS must structure their participation in the environmental review of the proposal so that it is meaningful and alerts an agency to the reviewer's position and contentions. Vermont Yankee Nuclear Power Corp. v. NRDC, 435 U.S. 519, 553 (1978). Also, environmental objections that could be raised at the draft EIS stage but are not raised until after completion of the final EIS may be waived or dismissed by the courts. City of Angoon v. Hodel, 803 f. 2d 1016, 1022 (9th Cir, 1986) and Wisconsin Heritages, Inc. v. Harris, 490 F. Supp. 1334, 1338 (E.D. Wis. 1980). Because of these court rulings, it is very important that those interested in this Proposed Action participate by the close of the 45-day comment period so that substantive comments and objections are made available to the Forest Service at a time when it can meaningfully consider them and respond to them in the final EIS.

To assist the Forest Service in identifying and considering issues and concerns on the Proposed Action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

Dated: May 22, 2002.
Gary L. Larsen,
Forest Supervisor.

[FR Doc. 02-10831 Filed 5-1-02; 8:45 am]

BILLING CODE 3410-11-M